DEPARTMENT OF COMMERCE

National Oceanic and Atmospheric Administration

50 CFR Part 648

[Docket No. 121009528-2729-02]

RIN 0648-XC634

Fisheries of the Northeastern United States; Summer Flounder Fishery; Quota Transfer

AGENCY: National Marine Fisheries Service (NMFS), National Oceanic and Atmospheric Administration (NOAA), Commerce.

ACTION: Temporary rule; quota transfers.

SUMMARY: NMFS announces that the State of North Carolina is transferring a portion of its 2013 commercial summer flounder quota to the Commonwealth of Virginia and to the State of Rhode Island; and that the Commonwealth of Virginia is transferring a portion of its 2013 commercial summer flounder quota to the Commonwealth of Massachusetts and to the State of New Jersey. NMFS is adjusting the quotas and announcing the revised commercial quota for each state involved.

DATES: Effective April 24, 2013, through December 31, 2013.

FOR FURTHER INFORMATION CONTACT: Carly Bari, Fishery Management Specialist, 978-281-9224.

SUPPLEMENTARY INFORMATION: Regulations governing the summer flounder fishery are in 50 CFR part 648, and require annual specification of a commercial quota that is apportioned among the coastal states from North Carolina through Maine. The process to set the annual commercial quota and the percent allocated to each state are described in § 648.100.

The final rule implementing Amendment 5 to the Summer Flounder, Scup, and Black Sea Bass Fishery Management Plan, which was published on December 17, 1993 (58 FR 65936), provided a mechanism for summer flounder quota to be transferred from one state to another. Two or more states, under mutual agreement and with the concurrence of the Administrator, Northeast Region, NMFS (Regional Administrator), can transfer or combine summer flounder commercial quota under § 648.102(c)(2). The Regional Administrator is required to consider the criteria in § 648.102(c)(2)(i) to evaluate requests for quota transfers or combinations.

North Carolina has agreed to transfer 556,921 lb (252,615 kg) of its 2013 commercial quota to Virginia. This transfer was prompted by summer flounder landings of a number of North Carolina vessels that were granted safe harbor in Virginia due to hazardous shoaling, from March 20, 2013, to April 5, 2013, thereby requiring a quota transfer to account for an increase in Virginia's landings that would have otherwise accrued against the North Carolina quota. North Carolina has also agreed to transfer 8,940 lb (4,055 kg) of its 2013 commercial quota to Rhode Island. This transfer was prompted by summer flounder landings of a North Carolina vessel that was granted safe harbor in Rhode Island on March 17, 2013, thereby requiring a quota transfer to account for an increase in Rhode Island's landings that would have otherwise accrued against the North Carolina quota.

Virginia has agreed to transfer 10,990 lb (4,985 kg) of its 2013 commercial quota to Massachusetts. This transfer was prompted by summer flounder landings of a Virginia vessel that was granted safe harbor in Massachusetts on March 20, 2013, thereby requiring a quota transfer to account for an increase in Massachusetts' landings that would have otherwise accrued against Virginia quota. Virginia has also agreed to transfer 11,729 lb (5,320 kg) of its 2013 commercial quota to New Jersey. This transfer was prompted by summer flounder landings of a Virginia vessel that was granted safe harbor in New Jersey on March 7, 2013, thereby requiring a quota transfer to account for an increase in New Jersey's landings that would have otherwise accrued against the Virginia quota. The Regional Administrator has determined that the criteria set forth in § 648.102(c)(2)(i) have been met. The revised summer flounder quotas for calendar year 2013 are: North Carolina, 422,360 lb (191,579 kg); Virginia, 5,040,501 lb (2,286,333 kg); New Jersey, 1,972,066 lb (894,514 kg); Rhode Island, 1,839,824 lb (834,530 kg); and Massachusetts, 791,236 lb (358,899 kg).

Classification

This action is taken under 50 CFR part 648 and is exempt from review under Executive Order 12866.

Authority: 16 U.S.C. 1801 et seq.

Dated: April 23, 2013.
Kara Meckley,
Acting Deputy Director, Office of Sustainable Fisheries, National Marine Fisheries Service.

[FR Doc. 2013-10022 Filed 4-24-13; 4:15 pm]

BILLING CODE 3510-22-P